ENVIRONMENTAL PROTECTION AGENCY

[FRL-7425-9]

National Advisory Council on Environmental Policy and Technology (NACEPT) Superfund Subcommittee Meeting

AGENCY: Environmental Protection Agency (EPA).

ACTION: Notification of public advisory NACEPT subcommittee on Superfund; open meeting.

SUMMARY: Pursuant to the Federal Advisory Committee Act, Pub. L. 92-463, notice is hereby given that the Superfund Subcommittee, a subcommittee of the National Advisory Council on Environmental Policy and Technology (NACEPT), will meet on the date and time described below. The meeting is open to the public. Seating will be on a first-come basis and limited time will be provided for public comment on each day.

DATES: The meeting will be held from 8:30 a.m. to 5:30 p.m. on January 7, 2003; from 8 a.m. to 12:15 p.m. on January 8, 2003.

ADDRESSES: The meeting will take place at the Hyatt Regency Washington on Capital Hill at 400 New Jersey Avenue, NW., Washington, DC 20001.

SUPPLEMENTARY INFORMATION:

Agenda

The third meeting of the Superfund Subcommittee will involve reports from the Subcommittee's working groups about their activities since the last full Subcommittee met in September 2002. The meeting will also include presentations and discussions of priority topics. To obtain a copy of the meeting agenda, contact Lois Gartner at (703) 603-9046.

Public Attendance

The public is welcome to attend all portions of the meeting. Members of the public who plan to file written statements and/or make brief (suggested 5-minute limit) oral statements at the public sessions are encouraged to contact the Designed Federal Officer.

FOR FURTHER INFORMATION CONTACT: Lois H. Gartner, Designated Federal Officer for the NACEPT Superfund Subcommittee, Office of Emergency and Remedial Response, Office of Solid Waste and Emergency Response, MC 5204G, 1200 Pennsylvania Ave., NW., Washington, DC 20004, (703) 603-9046.

Dated: December 16, 2002.
Lois H. Gartner,
Designated Federal Officer, NACEPT Superfund Subcommittee.

[FR Doc. 02-32135 Filed 12-19-02; 8:45 am]

BILLING CODE 6560-50-P